DEPARTMENT OF ENERGY

Federal Energy Regulatory Commission

Combined Notice of Filings, #1

October 7, 2008.

Take notice that the Commission received the following electric corporate filings:

Docket Numbers: EC09-1-000.

Applicants: American Electric Power Service Corporation.

Description: American Electric Power submits a Request for Disclaimer of Jurisdiction or, in the Alternative Application for Approvals under section 203 of the Federal Power Act, Request for Expedited Consideration and Request for Confidential Treatment.

Filed Date: 10/01/2008.

Accession Number: 20081003-0030.

Comment Date: 5 p.m. Eastern Time on Wednesday, October 22, 2008.

Take notice that the Commission received the following exempt wholesale generator filings:

Docket Numbers: EG09-2-000.

Applicants: Krayn Wind LLC.

Description: Krayn Wind, LLC submits a notice of self-certification of exempt wholesale generator status.

Filed Date: 10/01/2008.

Accession Number: 20081003-0047.

Comment Date: 5 p.m. Eastern Time on Wednesday, October 22, 2008.

Take notice that the Commission received the following electric rate filings:

Docket Numbers: ER00-2117-006; ER00-2118-006; ER00-3751-006; ER02-24-011; ER01-389-009; ER92-521-003; ER07-400-002; ER08-1236-002; ER93-493-018; ER02-26-010; ER02-25-009.

Applicants: ANP Bellingham Energy Company LLC, ANP Blackstone Energy Company, LLC, ANP Funding I, LLC, Armstrong Energy Limited Partnership, LLLP, Calumet energy Team, LLC, Hartwell energy Limited Partnership, IPA Marketing, Inc., IPA Trading, Inc., Milford Power Limited Partnership, Pleasants Energy, LLC, Troy Energy, LLC.

Description: IPA Entities submits Troy market-based rate tariff, as well as a redlined version of that tariff highlighting the changes Troy made in compliance with Order 697 and 697-A.

Filed Date: 10/01/2008.

Accession Number: 20081003-0024.

Comment Date: 5 p.m. Eastern Time on Wednesday, October 22, 2008.

Docket Numbers: ER06-613-006.

Applicants: ISO New England Inc. and New England Power Pool.

Description: ISO New England Inc. submits a report on the status of stakeholder consideration of the possible implementation in New England of a forward Ten-Minute Spinning Reserve.

Filed Date: 10/01/2008.

Accession Number: 20081003-0028.

Comment Date: 5 p.m. Eastern Time on Wednesday, October 22, 2008.

Docket Numbers: ER06-1512-001; ER06-1512-002.

Applicants: Verso Androscoggin LLC.

Description: Verso Androscoggin LLC submits a revised Appendix B Analysis and amends the effective date provision in its market-based rate tariff.

Filed Date: 10/01/2008.

Accession Number: 20081003-0025.

Comment Date: 5 p.m. Eastern Time on Wednesday, October 15, 2008.

Docket Numbers: ER08-1244-000.

Applicants: Midwest Independent Transmission System Operator, Inc.

Description: Motion to withdraw the 7/9/08 filing of proposed revisions and amendments made to Open Access Transmission & Energy Markets Tariff of the Midwest Independent Transmission System Operator, Inc.

Filed Date: 10/01/2008.

Accession Number: 20081003-0307.

Comment Date: 5 p.m. Eastern Time on Wednesday, October 22, 2008.

Docket Numbers: ER08-1272-001.

Applicants: New York Independent System Operator, Inc.

Description: New York Independent System Operator, Inc submits revisions to the Headroom cost allocation methodology contained in it's Open Access Transmission Tariff Attachment S.

Filed Date: 10/03/2008.

Accession Number: 20081006-0169.

Comment Date: 5 p.m. Eastern Time on Friday, October 24, 2008.

Docket Numbers: ER08-1584-002.

Applicants: Black Hills Power, Inc.

Description: Black Hills Power, Inc submits revised pages comprising Attachment N, in clean and blacklined formats to supplement its September 29, 2008 filing.

Filed Date: 10/02/2008.

Accession Number: 20081006-0168.

Comment Date: 5 p.m. Eastern Time on Thursday, October 23, 2008.

Docket Numbers: ER09-5-000.

Applicants: ISO New England Inc. and New England Power Pool.

Description: ISO New England and the NEPOOL Participants Committee submits Second Revised Sheet 7011H et al. to FERC Electric Tariff 3 and supporting testimony of Henry Y Yoshimura.

Filed Date: 10/01/2008.

Accession Number: 20081003-0109.

Comment Date: 5 p.m. Eastern Time on Wednesday, October 22, 2008.

Docket Numbers: ER09-9-000.

Applicants: Carolina Power & Light Company.

Description: Carolina Power & Light Company submits a Partial Requirements Service Agreement with Haywood Electric Membership Corp, Rate Schedule 180.

Filed Date: 10/01/2008.

Accession Number: 20081003-0113.

Comment Date: 5 p.m. Eastern Time on Wednesday, October 22, 2008.

Docket Numbers: ER09-10-000.

Applicants: ISO New England Inc. and New England Power Pool.

Description: ISO New England Inc et al. submit revised tariff sheets and supporting testimony of Donald L Gates to reflect or discuss proposed revisions to the ISO New England Information Policy.

Filed Date: 10/01/2008.

Accession Number: 20081003-0112.

Comment Date: 5 p.m. Eastern Time on Wednesday, October 22, 2008.

Docket Numbers: ER09-11-000; OA08-13-003; RM05-5-005.

Applicants: New York Independent System Operator, Inc.

Description: New York Independent System Operator, Inc submits amendments to one aspect of its 6/6/08 compliance filing etc.

Filed Date: 10/01/2008.

Accession Number: 20081003-0029.

Comment Date: 5 p.m. Eastern Time on Wednesday, October 22, 2008.

Docket Numbers: ER09-12-000.

Applicants: American Electric Power Service Corporation, Public Service Company of Oklahoma, and Southwestern Electric Power Company.

Description: American Electric Power Service Corp on behalf of Public Service Co of Oklahoma et al. submits a compliance filing supporting changes in the accounting for transmission and distribution plant-in-service etc.

Filed Date: 10/01/2008.

Accession Number: 20081003-0212.

Comment Date: 5 p.m. Eastern Time on Wednesday, October 22, 2008.

Docket Numbers: ER09-13-000.

Applicants: PJM Interconnection, L.L.C.

Description: PJM Interconnection, LLC submits amendments to the PJM Open Access Transmission Tariff etc.

Filed Date: 10/01/2008.

Accession Number: 20081003-0114.

Comment Date: 5 p.m. Eastern Time on Wednesday, October 22, 2008.

Docket Numbers: ER09-14-000.

Applicants: NSTAR Electric Company.

Description: NSTAR Electric Company submits an application seeking return on equity incentives for their 345 kV Transmission Reliability Project and three separate transmission projects collectively referred to as the SEMA Upgrades.

Filed Date: 10/02/2008.

Accession Number: 20081006-0101.

Comment Date: 5 p.m. Eastern Time on Thursday, October 23, 2008.

Docket Numbers: ER09-16-000.

Applicants: Southern California Edison Company.

Description: Southern California Edison Co submits the Engineering, Design, Procurement and Construction Letter Agreement with the City of Vernon.

Filed Date: 10/02/2008.

Accession Number: 20081003-0116.

Comment Date: 5 p.m. Eastern Time on Thursday, October 23, 2008.

Docket Numbers: ER09-17-000.

Applicants: Duke Energy Business Services, LLC, Duke Energy Indiana, Inc., Duke Energy Ohio, Inc.

Description: Duke Energy Business Services, LLC on behalf of Duke Energy Indiana, Inc et al. submits Notices of Cancellation of Rate Schedules 208 and 254 et al.

Filed Date: 10/02/2008.

Accession Number: 20081003-0117.

Comment Date: 5 p.m. Eastern Time on Thursday, October 23, 2008.

Docket Numbers: ER09-18-000.

Applicants: PJM Transmission Owners.

Description: PJM Transmission Owners submit revised tariff sheets to Rate Schedule 42.

Filed Date: 10/02/2008.

Accession Number: 20081003-0115.

Comment Date: 5 p.m. Eastern Time on Thursday, October 23, 2008.

Docket Numbers: ER09-21-000.

Applicants: American Transmission Systems, Inc.

Description: American Transmission Systems, Incorporated submits a Notice of Cancellation for the Generator Interconnection and Operating Agreement with Calpine Corporation, as successor in interest to Fremont Energy Center, LLC.

Filed Date: 10/02/2008.

Accession Number: 20081006-0063.

Comment Date: 5 p.m. Eastern Time on Thursday, October 23, 2008.

Docket Numbers: ER09-22-000.

Applicants: California Independent System Operator Corporation.

Description: California Independent System Operator Corp submits notice of termination of the Scheduling Coordinator Agreement of Lehman Brothers Commodity Services, Inc.

Filed Date: 10/02/2008.

Accession Number: 20081006-0062.

Comment Date: 5 p.m. Eastern Time on Thursday, October 23, 2008.

Docket Numbers: ER09-23-000.

Applicants: Florida Power & Light Company.

Description: Florida Power & Light Co submits a power sales agreement with Seminole Electric Coop, Inc as Service Agreement 91 under FERC Electric Tariff 8.

Filed Date: 10/02/2008.

Accession Number: 20081006-0064.

Comment Date: 5 p.m. Eastern Time on Thursday, October 23, 2008.

Docket Numbers: ER09-24-000.

Applicants: Midwest Independent Transmission System Operator, Inc.

Description: Midwest Independent Transmission System Operator, Inc submits its proposed revisions to its Open Access Transmission, Energy and Operating Reserve Markets Tariff to address needless occurrences of scarcity pricing observed during the Ancillary Service Market operational testing.

Filed Date: 10/02/2008.

Accession Number: 20081006-0065.

Comment Date: 5 p.m. Eastern Time on Thursday, October 23, 2008.

Docket Numbers: ER09-25-000.

Applicants: Midwest Independent Transmission System Operator, Inc.

Description: Midwest Independent Transmission System Operator, Inc submits an executed Amended and restated Large Generator Interconnection Agreement with Valley View Transmission, LLC.

Filed Date: 10/03/2008.

Accession Number: 20081006-0066.

Comment Date: 5 p.m. Eastern Time on Friday, October 24, 2008.

Docket Numbers: ER09-26-000.

Applicants: PJM Interconnection, L.L.C.

Description: PJM Interconnection, LLC submits modifications to its Open Access Transmission Tariff and Reliability Assurance Agreement etc.

Filed Date: 10/03/2008.

Accession Number: 20081006-0067.

Comment Date: 5 p.m. Eastern Time on Friday, October 24, 2008.

Docket Numbers: ER09-27-000.

Applicants: PJM Interconnection, L.L.C.

Description: PJM Interconnection, LLC submits a revised interconnection service agreement and a revised interconnection construction service agreement among PJM, Congentrix Virginia Leasing Corporation and Virginia Electric and Power.

Filed Date: 10/03/2008.

Accession Number: 20081006-0061.

Comment Date: 5 p.m. Eastern Time on Friday, October 24, 2008.

Docket Numbers: ER09-28-000.

Applicants: Constellation Energy Commodities Group, Inc.

Description: Constellation Energy Commodities Group, Inc requests a waiver of the Commission affiliate sales restrictions effective 10/3/08, with respect to power sales by Constellation to PacifiCorp relating to the West Valley Facility.

Filed Date: 10/03/2008.

Accession Number: 20081006-0170.

Comment Date: 5 p.m. Eastern Time on Friday, October 24, 2008.

Docket Numbers: ER09-29-000.

Applicants: Allegheny Energy Supply Company, LLC.

Description: Allegheny Energy Supply Company, LLC requests authorization to make wholesale power sales to its affiliate Potomac Edison Company pursuant to the terms of a master Full Requirements Service Agreement etc.

Filed Date: 10/03/2008.

Accession Number: 20081006-0171.

Comment Date: 5 p.m. Eastern Time on Friday, October 24, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-24298 Filed 10-10-08; 8:45 am]

BILLING CODE 6717-01-P